DEPARTMENT OF DEFENSE

Department of the Navy

Record of Decision for the Renewal of Authorization to Use Pinecastle Range, Ocala National Forest, FL

AGENCY: Department of the Navy, DOD.

ACTION: Notice.

SUMMARY: The Department of Navy announces its decision to continue operations at Pinecastle Range, Ocala National Forest, Florida.

SUPPLEMENTARY INFORMATION: Pursuant to Section 102(2)(c) of the National Environmental Policy Act (NEPA) of 1969, 42 U.S.C. Sections 4321 et seq., the regulations of the Council on Environmental Quality that implement NEPA procedures, 40 CFR parts 1500-1508, and Navy regulations implementing NEPA procedures (32 CFR 775), the Department of the Navy announces its decision to continue operations at the Pinecastle Range in the Ocala National Forest for a 20-year period, if U.S. Forest Service (USFS) renews the Interagency Agreement or “special use permit”, as it is now called. This action will enable the Navy to meet current and projected training requirements. The U.S. Department of Agriculture (USDA) and the U.S. Forest Service (USFS) are cooperating agencies in the preparation of this Environmental Impact Statement (EIS).

Background And Issues: Pinecastle Range (the Range) has been in continuous operation by Department of the Navy (Navy) since the early 1950s to train aircrews and support personnel in the delivery of ordnance. The Range is located within the boundaries of the Ocala National Forest, which is managed by the USDA and the USFS. The USFS, as the controlling agency for National Forest land, is responsible for issuing authorization for use of the land.

The Navy is currently authorized to operate and utilize the Range under an Interagency Agreement (IA) with USFS. The IA was to expire in December 1999, but was extended until July 2002, to allow for completion of the NEPA process. The IA specifies USFS and Navy responsibilities, defines terms of mutual agreement, and contains exhibits depicting Range boundaries and defining explosive ordnance restrictions.

Alternatives: A screening process, based upon criteria identified in the EIS, was conducted to determine a reasonable range of alternatives that would satisfy the Navy's purpose and need. Recommendations received from the public during scoping were also taken into consideration. The process used to identify feasible alternatives was thoroughly discussed in Draft and Final EIS. Ultimately, two alternatives were analyzed in detail in the EIS. The Preferred Alternative for continued use of the Range (pending USFS's decision to issue a special use permit) and No-Action alternative. The Preferred Alternative would retain and continue use of the existing range assets and restricted air space. Aircraft would continue to use the Range to meet fleet air-to-ground strike warfare training requirements for strafing, explosive ordnance delivery, and laser target designation. Naval aircraft operating in the Jacksonville Fleet Concentration Area would be the principal users of the Range; however, other military aircraft hosted by the Navy would continue to use the Range. Operations are projected at about 10,200 annually. If operations are exceeded by 10 percent, the Navy will prepare supplemental NEPA documentation.

With the No Action Alternative, the Navy would not pursue issuance of a special use permit, and the existing IA would expire, returning control of the Range to the USFS. The Navy would return control of the Range pursuant to the 1994 IA, as extended. The Navy would provide explosive ordnance disposal services if any bombs are found on or off the Range.

Environmental Impacts: Potential environmental impacts of continuing operations at the Range for a 20 year period are analyzed in the FEIS. The analysis demonstrates that environmental impacts associated with the continued use of the Range are less than significant. While no significant impacts are projected, impacts to resources of greatest concern to regulatory agencies and the public are briefly discussed below.

There are potential impacts to groundwater. Groundwater could be contaminated by the release of constituents and by-products of explosives used in live ordnance, spotting charges, and by the release of pollutants from bombing targets such as motor vehicles. While tests of groundwater have not revealed the presence of contaminants above established maximum regulatory levels, and the small size of the range relative to the aquifer recharge area decrease the likelihood of contamination, the Navy, in conjunction with the USFS, will develop and implement a groundwater monitoring plan.

The potential presence of unexploded ordnance (UXO) on and off the Range was a matter of concern to the public. The potential for UXO to accumulate on the Live Target or in its vicinity is minimal because Range maintenance procedures do not allow UXO to remain in place for an extended period of time. Spotters observe all aircraft approaches and weapons deliveries involving live ordnance. All unexploded ordnance on-range is rendered safe by contractor UXO personnel. Any bombs dropped “off-range” will be rendered safe by the Navy. Since the inception of the current spotter program in 1992, no live ordnance has been dropped outside of the Range boundary.

The scrub habitat on the Range supports several threatened or endangered species. This type of vegetative habitat would mature and decrease without the cooperation of the USFS's and Navy's Range activities. The U.S. Fish and Wildlife Service (USFWS) in a Biological Opinion prepared in conjunction with the EIS, determined that the continuation of military operations on the Range for 20 years would not likely adversely affect the wood stork, Florida bonamia, scrub buckwheat, and scrub milkwort.

With regard to the Florida scrub-jay, Eastern indigo snake, and sand skink, the USFWS determined that although there is a possibility that the use of the target areas may result in the incidental take of these three species, the level of anticipated takes is not likely to result in jeopardizing the continued existence of those species. The USFWS did recommend the Navy adopt specific “reasonable and prudent measures” for the Florida scrub-jay, the sand skink, and the Eastern indigo snake. These measures include a monitoring program conducted by the Forest Service for all three listed species on the Range.

There would be no significant impacts on public safety associated with continued use of the Range. There are no permanent residents in areas considered incompatible for residential use within Range safety zones. Although impacts on public safety are not significant, the Navy has incorporated measures into the operations of the Range to mitigate safety issues. The physical layout of the Range isolates the training activities and limits potential impacts to the public and natural environments; the airspace ingress and egress routes to the airspace is laid out to avoid population centers and recreational areas; Range safety zone boundaries will be marked by signs where possible; and USFS will post detailed locational information about safety zones to ensure that the public will avoid the zones during military training activities.

While USFS is expected to continue to allow hunting and hiking activities in areas near the Range boundary, the mitigation in place is sufficient to prevent significant safety risks. No injuries or fatalities to Government employees or members of the public have occurred as a result of Range activities since the Navy began using the Range over 50 years ago.

The Navy developed noise contours associated with aircraft operations at the Range. No incompatible land uses were identified in any of the modeled noise contours. While there are no incompatible land uses relative to the noise contours associated with continued operation of the Range, people in the surrounding areas will continue to hear noise from aircraft and occasional impulse noise from the explosion of ordnance. The Naval Air Station Jacksonville Public Affairs Office will continue to contact local newspapers and broadcast media prior to the use of explosive ordnance on the Range. The Navy and USFS will inform campers and recreational users who may not have access to the local newspapers or broadcast announcements.

Comments Received on the EIS: The Navy received comments from Environmental Protection Agency Region 4 (EPA), Florida Department of Environmental Protection (FDEP) and a private citizen. EPA stated that its concerns had been adequately addressed in the FEIS. FDEP requested additional information regarding development of the groundwater monitoring plan. The Navy will continue to partner with FDEP and will keep the agency informed as the plan is developed. The private citizen supported Navy's continued training on the Range.

Conclusion: After considering the analysis contained in the EIS, the final Range Air Installation Compatible Use Zone study, and the comments received from Federal, state, and local agencies, non-governmental organizations, and individual members of the public; I have concluded that continuing operations at Pinecastle Range meets the Navy's purpose and need to maintain fully trained aircrews and support personnel to meet training requirements, and to achieve an acceptable level of readiness prior to deploying independently or as part of a Carrier Battle Group. Although this alternative will result in prominent, but insignificant noise impacts to the surrounding populations, it will not result in potentially significant adverse impacts to endangered species due to maturation and ultimate loss of the scrub habitat. It is therefore considered the environmentally preferable alternative.

Dated: March 29, 2002.
Donald R. Schregardus,
Deputy Assistant Secretary of the Navy (Environment).

[FR Doc. 02-8652 Filed 4-9-02; 8:45 am]

BILLING CODE 3810-FF-P